SCIENCE AND TECHNOLOGY POLICY OFFICE

Notice of Request for Information; National Plan for Civil Earth Observations

AGENCY: White House Office of Science and Technology Policy (OSTP).

ACTION: Request for Information (RFI); extension of comment period.

SUMMARY: On November 23, 2023, the Office of Science and Technology Policy (OSTP) published in the Federal Register a document entitled “Request for Information (RFI); National Plan for Civil Earth Observations.” This RFI, issued by OSTP, which includes a draft of the 2023 National Plan, seeks information to achieve a future vision for continued United States global leadership in enabling and leveraging civil Earth Observations to increase access to Earth data, and address global changes. OSTP is specifically interested in public input to inform the development and release of the 2023 National Plan to better leverage Earth Observations for addressing key societal challenges and trends of the coming decade. In response to requests by prospective commenters that they would benefit from additional time to adequately consider and respond to the RFI, OSTP has determined that an extension of the comment period until January 16, 2024 is appropriate.

DATES: The end of the comment period for the document entitled “Request for Information (RFI); National Plan for Civil Earth Observations,” published on November 23, 2023 (88 FR 81448), is extended from December 31, 2023 to January 16, 2024.

ADDRESSES: Comments submitted in response to 88 FR 81448 should be submitted via regulations.gov (Docket #: OSTP-FRDOC-0001-0013 or https://www.regulations.gov/document/OSTP_FRDOC_0001-0013). Due to time constraints, mailed paper submissions will not be accepted, and electronic submissions received after the deadline cannot be ensured to be incorporated or taken into consideration.

Instructions: Federal eRulemaking Portal: Go to www.regulations.gov to submit your comments electronically. Information on how to use Regulations.gov, including instructions for accessing agency documents, submitting comments, and viewing the docket, is available on the site under “FAQ” (https://www.regulations.gov/faq).

Privacy Note: OSTP's policy is to make all comments received from members of the public available for public viewing in their entirety on the Federal eRulemaking Portal at www.regulations.gov. Therefore, commenters should be careful to include in their comments only information that they wish to make publicly available. OSTP requests that no proprietary information, copyrighted information, or personally identifiable information be submitted in response to this RFI.

Information obtained from this RFI may be used by the Government on a non-attribution basis for planning and strategy development. OSTP will not respond to individual submissions. A response to this RFI will not be viewed as a binding commitment to develop or pursue the project or ideas discussed. This RFI is not accepting applications for financial assistance or financial incentives.

Responses containing references, studies, research, and other empirical data that are not widely published should include copies of or electronic links to the referenced materials. Responses from minors, or responses containing profanity, vulgarity, threats, or other inappropriate language or content will not be considered.

Comments submitted in response to this notice are subject to the Freedom of Information Act (FOIA). Responses to this RFI may be posted without change online. Please note that the United States Government will not pay for response preparation, or for the use of any information contained in a response.

FOR FURTHER INFORMATION CONTACT: Ezinne Uzo-Okoro; tel: 202-456-4010 or usgeo@ostp.eop.gov.

SUPPLEMENTARY INFORMATION: Pursuant to 42 U.S.C. 6617, OSTP is soliciting public input through an RFI to obtain feedback from a wide variety of stakeholders, including individuals, industry, academia, research laboratories, nonprofits, and think tanks. OSTP is specifically interested in public input to inform the development and release of the 2023 National Plan to better leverage Earth Observations for addressing key societal challenges and trends of the coming decade. The first draft of the 2023 National Plan is included in the Regulations.gov notice (Docket #: OSTP-FRDOC-0001-0013 or https://www.regulations.gov/document/OSTP_FRDOC_0001-0013) for public input. The document stated that the comment period would close on December 31, 2023. OSTP has received requests to extend the comment period. An extension of the comment period will provide additional opportunity for the public to consider the RFI and prepare comments to address the topics listed therein. Therefore, OSTP is extending the end of the comment period for the RFI from December 31, 2023 to January 16, 2024.

Submitted by the White House Office of Science and Technology Policy on December 7, 2023.

Dated: December 11, 2023.
Stacy Murphy,
Deputy Chief Operations Officer/Security Officer.

[FR Doc. 2023-27461 Filed 12-13-23; 8:45 am]

BILLING CODE 3270-F1-P